Title 3—

The President

Presidential Determination No. 2021-05 of April 16, 2021

Emergency Presidential Determination on Refugee Admissions for Fiscal Year 2021

Memorandum for the Secretary of State

By the authority vested in me as President by the Constitution and the laws of the United States of America, in accordance with section 207(b) of the Immigration and Nationality Act (the “Act”) (8 U.S.C. 1157(b)), and after appropriate consultation with the Congress, I have determined that subsequent to the signing of Presidential Determination 2021-02 on October 27, 2020 (Presidential Determination on Refugee Admissions for Fiscal Year 2021) (PD 2021-02), an unforeseen emergency refugee situation now exists due to new or increasing political violence, repression, atrocities, or humanitarian crises in countries including Burma, the Democratic Republic of the Congo, Ethiopia, Hong Kong and Xinjiang (China), South Sudan, Syria, and Venezuela, as well as changing conditions caused by the coronavirus disease 2019 pandemic. I have further determined that the allocation of admissions among refugees of humanitarian concern set forth in PD 2021-02 prevents the United States Refugee Admissions Program from responding to this unforeseen emergency refugee situation. I hereby make the following determinations and direct the following actions:

(a) In response to the emergency refugee situation, the Fiscal Year (FY) 2021 allocation of admissions among refugees of humanitarian concern to the United States shall be revised as set forth in section (b) of this determination. This action is justified by grave humanitarian concerns and is otherwise in the national interest. Further, the admission of refugees affected by the emergency refugee situation cannot be accomplished under section 207(a) of the Act.

(b) The revised allocations for FY 2021 are as follows:

| Africa | 7,000 |
| East Asia | 1,000 |
| Europe and Central Asia | 1,500 |
| Latin America and the Caribbean | 3,000 |
| Near East and South Asia | 1,500 |
| Unallocated Reserve | 1,000 |

The Secretary of State, upon notification to the Judiciary Committees of the Congress, is authorized to use the unallocated reserve where the need for additional admissions arises and to transfer unused allocations from a particular category to one or more other categories, if there is a need for greater admissions for the category or categories to which the allocations are being transferred.

(c) In accordance with section 101(a)(42)(B) of the Act (8 U.S.C. 1101(a)(42)(B)), and after appropriate consultation with the Congress, I specify that, for FY 2021, the following persons may, if otherwise qualified, be considered refugees for the purpose of admission to the United States within their countries of nationality or habitual residence:

(i) Persons in Cuba;

(ii) Persons in Eurasia and the Baltics;

(iii) Persons in Iraq;

(iv) Persons in Honduras, Guatemala, and El Salvador;

(v) In special circumstances, persons identified by a United States Embassy in any location or initially referred to the Federal Government by a designated non-governmental organization.

(d) The admission of up to 15,000 refugees remains justified by humanitarian concerns and is otherwise in the national interest. Should 15,000 admissions under the revised allocations for FY 2021 be reached prior to the end of the fiscal year and the emergency refugee situation persists, a subsequent Presidential Determination may be issued to increase admissions, as appropriate.

(e) Refugee resettlement pursuant to this determination shall be consistent with the requirements of Executive Order 14013 of February 4, 2021 (Rebuilding and Enhancing Programs to Resettle Refugees and Planning for the Impact of Climate Change on Migration).

(f) Consistent with section 2(b)(2) of the Migration and Refugee Assistance Act of 1962 (22 U.S.C. 2601(b)(2)), I hereby determine that assistance to or on behalf of persons applying for admission to the United States as part of the overseas refugee admissions program will contribute to the foreign policy interests of the United States and designate such persons for the purpose of that provision.

(g) This determination supersedes PD 2021-02 of October 27, 2020.

(h) You are authorized and directed to publish this determination in the Federal Register.

THE WHITE HOUSE,

Washington, April 16, 2021

[FR Doc. 2021-08545

Filed 4-21-21; 8:45 am]

Billing code 4710-10-P